DEPARTMENT OF THE INTERIOR

National Park Service

[NPS-WASO-NRNHL-19804; PPWOCRADI0, PCU00RP14.R50000]

National Register of Historic Places; Notification of Pending Nominations and Related Actions

AGENCY: National Park Service, Interior.

ACTION: Notice.

SUMMARY: The National Park Service is soliciting comments on the significance of properties nominated before November 14, 2015, for listing or related actions in the National Register of Historic Places.

DATES: Comments should be submitted by December 31, 2015.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION:

The properties listed in this notice are being considered for listing or related actions in the National Register of Historic Places. Nominations for their consideration were received by the National Park Service before November 14, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ILLINOIS

Cook County

Davis Theater, 4616-4630 N. Lincoln Ave., Chicago, 15000930

Jackson County

Jackson County Courthouse, 1001 Walnut St., Murphysboro, 15000931

La Salle County

Hauge Lutheran Church, 3656 E. 2631st Rd., Sheridan, 15000932

Union County

Thompson Brothers Rock Art, Address Restricted, Makanda, 15000933

Winnebago County

East Rockford Historic District (Boundary Increase), Roughly bounded by Madison, Market, 2nd & State Sts., Rockford, 15000935

Turner School, 1410 Broadway, Rockford, 15000934

KANSAS

Cowley County

East Badger Creek Culvert, (Masonry Arch Bridges of Kansas TR) 182nd Rd. approx. .3 mi. E. of 131st Rd., Winfield, 15000936

Douglas County

Beal, George Malcom, House, (Lawrence, Kansas MPS) 1624 Indiana St., Lawrence, 15000937

Republic County

Woodland Place Stock Farm, (Agriculture-Related Resources of Kansas MPS) 180 Hickory Rd., Courtland, 15000938

Shawnee County

Ritchie, John and Mary, House, 1116 SE. Madison St., Topeka, 15000939

Senate and Curtis Court Apartments Historic District, 900-914 SW. Tyler St., Topeka, 15000940

MARYLAND

St. Mary's County

De La Brooke Tobacco Barn, (Tobacco Barns of Southern Maryland MPS) De La Brooke Rd., Oraville, 15000941

MASSACHUSETTS

Suffolk County

Fox, I.J., Building, 407 Washington St., Boston, 15000942

MICHIGAN

Allegan County

Saugatuck Pump House, 735 Park St., Saugatuck, 15000943

Alpena County

IOOF Centennial Building, 150 E. Chisholm St., Alpena, 15000944

Antrim County

Elk Rapids First Methodist Episcopal Church, 301 Traverse St., Elk Rapids, 15000945

Marquette County

Braastad—Gossard Building, 308 Cleveland Ave., Ishpeming, 15000946

Wayne County

Detroit News Complex, 615 & 801 W. Lafayette Blvd., Detroit, 15000947

NEW MEXICO

Otero County

Bridge A 249—Cloudcraft, New Mexico, 65 E. Little Mexican Ave., Cloudcraft, 15000948

A request for removal has been received for the following resources:

KANSAS

Cowley County

Yount, George W., Barn, 1 mi. E of US 77, approximately 2.5 mi. N of Winfield, Winfield, 97000436

Doniphan County

Highland Water Tower, (Highland, Doniphan County, Kansas MPS) Jct. N. Genesee and W. Illinois Sts., Highland, 07000249

Authority: 60.13 of 36 CFR Part 60.

Dated: November 17, 2015.
J. Paul Loether,
Chief, National Register of Historic Places/National Historic Landmarks Program.

[FR Doc. 2015-31589 Filed 12-15-15; 8:45 am]

BILLING CODE 4312-51-P